DEPARTMENT OF ENERGY

Federal Energy Regulatory Commission

[Project No. 2705-037]

Seattle City Light; Notice Soliciting Scoping Comments

Take notice that the following hydroelectric application has been filed with the Commission and is available for public inspection.

a. Type of Application: Application for surrender of license.

b. Project No.: P-2705-037.

c. Date filed: January 28, 2022.

d. Applicant: Seattle City Light.

e. Name of Project: Newhalem Creek Hydroelectric Project.

f. Location: The existing project is located on Newhalem Creek, near Newhalem, Whatcom County, Washington. The project occupies 6.4 acres of lands managed by the National Park Service.

g. Filed Pursuant to: Federal Power Act 16 U.S.C. 791(a)-825(r).

h. Applicant Contact: Mr. Michael Haynes, Assistant General Manager, Seattle City Light, P.O. Box 3402, Seattle, WA 98124-4023; 206-684-3618.

i. FERC Contact: Diana Shannon at (202) 502-6136; or diana.shannon@ferc.gov.

j. Deadline for filing scoping comments: September 28, 2022.

The Commission strongly encourages electronic filing. Please file scoping comments using the Commission's eFiling system at https://www.ferc.gov/docs-filing/efiling.asp. Commenters can submit brief comments up to 6,000 characters, without prior registration, using the eComment system at https://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include the docket number P-2705-037. Comments emailed to Commission staff are not considered part of the Commission record.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Description of Application: Seattle City Light has concluded that the anticipated cost of relicensing, as well as costs associated with needed repairs and upgrades to project equipment and to the access road exceed the estimated future value of the Project. Seattle City Light proposes to decommission and remove the diversion dam and associated headworks, tailrace fish barrier, and certain overhead transmission lines. The rock shaft and power tunnel would be sealed, and the access road above elevation 840 feet would be decommissioned. The powerhouse, tailrace, and penstock would remain, and the powerhouse equipment would be de-energized. Electrical service to the powerhouse would remain to provide heating and lighting.

l. This filing may also be viewed on the Commission's website at https://www.ferc.gov using the “eLibrary” link. Enter the docket number excluding the last three digits in the docket number field to access the document. You may also register online at https://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. You may also register online at http://www.ferc.gov/docs-filing/esubscription.asp to be notified via email of new filings and issuances related to this or other pending projects. For assistance, contact FERC Online Support.

n. Scoping Process.

The Commission staff intends to prepare a draft and final Environmental Assessment (EA) for the project in accordance with the National Environmental Policy Act. The EAs will consider site-specific effects and reasonable alternatives to the proposed action.

At this time, we do not anticipate holding on-site public or agency scoping meetings. Instead, we are soliciting your comments and suggestions on the preliminary list of issues and alternatives to be addressed in the NEPA document, as described in scoping document 1 (SD1), issued Aug 29, 2022.

Copies of the SD1 outlining the subject areas to be addressed in the EA were distributed to the parties on the Commission's mailing list. Copies of SD1 may be viewed on the web at https://www.ferc.gov using the “eLibrary” link. Enter the docket number excluding the last three digits in the docket number field to access the document. For assistance, call 1-866-208-3676 or for TTY, (202) 502-8659.

Dated: August 29, 2022.
Kimberly D. Bose,
Secretary.

[FR Doc. 2022-19060 Filed 9-1-22; 8:45 am]

BILLING CODE 6717-01-P